DEPARTMENT OF ENERGY

Federal Energy Regulatory Commission

Combined Notice of Filings

Take notice that the Commission has received the following Natural Gas Pipeline Rate and Refund Report filings:

Filings Instituting Proceedings

Docket Numbers: RP13-981-000.

Applicants: East Tennessee Natural Gas, LLC.

Description: Update GTC Section 45 to be effective 7/19/2013.

Filed Date: 6/18/13.

Accession Number: 20130618-5041.

Comments Due: 5 p.m. ET 7/1/13.

Docket Numbers: RP13-982-000.

Applicants: Ozark Gas Transmission, L.L.C.

Description: Cleanup Items and Miscellaneous Modifications to be effective 8/1/2013.

Filed Date: 6/18/13.

Accession Number: 20130618-5056.

Comments Due: 5 p.m. ET 7/1/13.

Docket Numbers: RP13-983-000.

Applicants: Natural Gas Pipeline Company of America.

Description: Tenaska Gas Negotiated Rate to be effective 6/18/2013.

Filed Date: 6/18/13.

Accession Number: 20130618-5068.

Comments Due: 5 p.m. ET 7/1/13.

Docket Numbers: RP13-984-000.

Applicants: Natural Gas Pipeline Company of America.

Description: NJR Energy Negotiated Rate to be effective 6/18/2013.

Filed Date: 6/18/13.

Accession Number: 20130618-5077.

Comments Due: 5 p.m. ET 7/1/13.

Docket Numbers: RP13-985-000.

Applicants: Natural Gas Pipeline Company of America.

Description: Macquarie Energy Negotiated Rate to be effective 6/18/2013.

Filed Date: 6/18/13.

Accession Number: 20130618-5105.

Comments Due: 5 p.m. ET 7/1/13.

Docket Numbers: RP13-986-000.

Applicants: Bobcat Gas Storage.

Description: note to Hub Services Exhibit B to be effective 8/1/2013.

Filed Date: 6/18/13.

Accession Number: 20130618-5117.

Comments Due: 5 p.m. ET 7/1/13.

Docket Numbers: RP13-987-000.

Applicants: Egan Hub Storage, LLC.

Description: note to Hub Services Exhibit B to be effective 8/1/2013.

Filed Date: 6/18/13.

Accession Number: 20130618-5118.

Comments Due: 5 p.m. ET 7/1/13.

Docket Numbers: RP13-988-000.

Applicants: Steckman Ridge, LP.

Description: note to Hub Services Exhibit B to be effective 8/1/2013.

Filed Date: 6/18/13.

Accession Number: 20130618-5119.

Comments Due: 5 p.m. ET 7/1/13.

Docket Numbers: RP13-989-000.

Applicants: Natural Gas Pipeline Company of America.

Description: Renaissance Trading Negotiated Rate to be effective 6/18/2013.

Filed Date: 6/18/13.

Accession Number: 20130618-5125.

Comments Due: 5 p.m. ET 7/1/13.

Docket Numbers: RP13-990-000.

Applicants: ProLiance Energy, LLC.

Description: Petition of ProLiance Energy, LLC for Temporary Waivers of Capacity Release Regulation and Related Pipeline Tariff Provisions.

Filed Date: 6/18/13.

Accession Number: 20130618-5158.

Comments Due: 5 p.m. ET 7/1/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-874-001.

Applicants: Portland Natural Gas Transmission System.

Description: Compliance to RP13-874-000 to be effective 6/1/2013.

Filed Date: 6/17/13.

Accession Number: 20130617-5119.

Comments Due: 5 p.m. ET 7/1/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 19, 2013.
Nathaniel J. Davis, Sr.,
Deputy Secretary.

[FR Doc. 2013-15802 Filed 7-1-13; 8:45 am]

BILLING CODE 6717-01-P